DEPARTMENT OF AGRICULTURE

Food and Nutrition Service

Agency Information Collection Activities: Proposed Collection; Comment Request—Food Stamp Program Repayment Demand and Program Disqualification

AGENCY: Food and Nutrition Service, USDA.

ACTION: Notice.

SUMMARY: In accordance with the Paperwork Reduction Act of 1995, this Notice invites the general public and other public agencies to comment on proposed information collections. This Notice of Proposed Information Collection announces the intent of the Food and Nutrition Service (FNS) to request a revision for the information collection requirements associated with initiating collection actions against households who have received an overissuance in the Food Stamp Program. In addition, this Notice announces FNS' intent to request a revision of OMB approval for the information collection requirements associated with intentional Program violation determinations.

DATES: Written comments must be submitted on or before April 28, 2008 to be assured consideration.

ADDRESSES: Send comments to Jane Duffield, Chief, State Administration Branch, Food and Nutrition Service, USDA, 3101 Park Center Drive, Room 822, Alexandria, Virginia 22302.

Pursuant to the Paperwork Reduction Act of 1995 (44 U.S.C. 3507), comments are invited on: (a) Whether the proposed collection of information is necessary for the proper performance of the functions of the agency, including whether the information will have practical utility; (b) the accuracy of the agency's estimate of the burden of the proposed collection of information, including the validity of the methodology and assumptions used; (c) ways to enhance the quality, utility, and clarity of the information to be collected; and (d) ways to minimize the burden of the collection of information on those who are to respond, including through the use of appropriate automated, electronic, mechanical, or other technological collection techniques or other forms of information technology.

All comments will be summarized and included in the request for Office of Management and Budget approval of the information collection. All comments will become a matter of public record.

FOR FURTHER INFORMATION CONTACT: For initiating collection action, contact Dawn Washington at (703) 305-2450. For Intentional Program Violation (IPV) determination, contact Greg Fortine at (703) 305-2401.

SUPPLEMENTARY INFORMATION:

Title: Food Stamp Program Repayment Demand and Program Disqualification.

OMB Number: 0584-0492.

Form Number: None.

Expiration Date: April 30, 2008.

Type of Request: Revision of a currently approved collection.

Abstract: Section 13(b) of the Food Stamp Act of 1977, as amended (7 U.S.C. 2022(b)), and Food Stamp Program (FSP) regulations at 7 CFR 273.18 require State agencies to initiate collection action against households that have been overissued benefits. To initiate collection action, State agencies must provide an affected household with written notification informing the household of the claim and demanding repayment. This process is automated in most State agencies. For initiating collection action on an overissuance, we are decreasing the estimated annual reporting and recordkeeping burden for State agencies and households from 166,329 hours to 135,393. The reason for the decrease is to reflect the lower number of claims that were established in fiscal year (FY) 2006.

Note that for recipient claims, this Federal Register Notice only covers the reporting and recordkeeping burden for initiating collection action. The burden associated with reporting collections and other claims management information on the FNS-209 report is covered under currently approved OMB number 0584-0069. The burden associated with referring delinquent claims and receiving collections through the Treasury Offset Program is covered under currently approved OMB number 0584-0446.

FSP regulations at 7 CFR 273.16 require State agencies to investigate any case of suspected fraud and, where applicable, make an intentional program violation (IPV) determination either administratively or judicially. Notifications and activity involved in the IPV process include:

• The State agency providing written notification informing an individual suspected of committing an IPV of an impending administrative disqualification hearing or court action.

• An individual opting to accept the disqualification and waiving the right to an administrative disqualification hearing or court action by signing either a waiver to an administrative disqualification hearing or a disqualification consent agreement in cases of deferred adjudication.

• Once a determination is made regarding an IPV, the State agency sends notification to the affected individual of the action taken on the administrative disqualification hearing or court decision.

Despite an increase in FSP participation, IPV activity has experienced a decline. Therefore, we are decreasing the State agency and household annual reporting and recordkeeping burden for the activities related to IPV disqualifications from 38,435 hours to 11,045 hours.

One of the factors used by a State agency to determine the appropriate disqualification penalty to assign to an individual is whether or not the individual was found to have committed any prior IPVs. The way that State agencies determine this is by accessing and checking the Electronic Disqualified Recipient Subsystem (eDRS). eDRS is an automated system developed by FNS that contains records of disqualifications in every State. State agencies are responsible for updating the system and checking it to determine the appropriate length of each disqualification. An estimate of the annual burden associated with the eDRS process reflects a decrease from 7,418 to 5,563 hours per year.

Summary of Estimated Burden

The net aggregate change from the existing to the proposed annual burden for this collection is a reduction of 30,936 hours, from the currently approved burden of 166,329 hours. For initiating collection action on an overissuance, we are decreasing the estimated annual burden for State agencies and households from 142,510 hours to 118,786 hours to reflect the lower number of claims established in FY 2006. The IPV-related State agency and household annual burden, has decreased from 16,401 hours to 11,044 hours to reflect the lower number of disqualifications. An estimate of the annual burden associated with the eDRS process reflects a total decrease from 7,418 to 5,563 hours per year. Adjustments have been made to the burden to include requirements not previously identified, burden identified incorrectly, and corrections made in the calculations of the number of responses and hours per response.

Affected Public: State and local government, and food stamp households.

Estimated Number of Respondents: 556,053.

Number of Responses per Respondent: 2.53.

Total Number of Annual Responses: 1,404,718.

Estimated Time per Response: 0.09.

Estimated Total Annual Burden: 135,393.

Dated: February 22, 2008.
Roberto Salazar,
Administrator, Food and Nutrition Service.

[FR Doc. E8-3750 Filed 2-27-08; 8:45 am]

BILLING CODE 3410-30-P